DEPARTMENT OF HEALTH AND HUMAN SERVICES

Administration for Children and Families

45 CFR Part 1336

[Assistance Listing Numbers: 93.581, 93.587, 93.612]

Notice for Public Comment on Administration for Native Americans' Program Policies and Procedures

AGENCY: Administration for Native Americans, Administration for Children and Families, Department of Health and Human Services.

ACTION: Request for public comment.

SUMMARY: Pursuant to section 814 of the Native American Programs Act of 1974 (NAPA), as amended, the Administration for Native Americans (ANA) is required to provide members of the public an opportunity to comment on proposed changes in interpretive rules and general statements of policy and to give notice of the proposed changes no less than 30 days before such changes become effective. In accordance with notice requirements of NAPA, ANA herein describes proposed interpretive rules and general statements of policy that relate to ANA's Notices of Funding Opportunities (NOFOs) in fiscal year (FY) 2024. Changes to FY NOFOs will be based on the previously published programs: Environmental Regulatory Enhancement (ERE), HHS-2021-ACF-ANA-NR-1907; Native American Language Preservation and Maintenance-Esther Martinez Immersion (EMI), HHS-2021-ACF-ANA-NB-1958; Native American Language Preservation and Maintenance (P&M), HHS-2021-ACF-ANA-NL-1924; Social and Economic Development Strategies (SEDS), HHS-2021-ACF-ANA-NA-1906; Social and Economic Development Strategies-Alaska (SEDS-AK), HHS-2021-ACF-ANA-NK-1902.

DATES: Comments are due by March 18, 2024. If ANA does not receive any significant comments within the 30-day comment period, ANA will proceed with the proposed changes in the respective published NOFOs. The NOFOs will serve as the final notice of these proposed changes.

ADDRESSES: Comments may be submitted to: Carmelia Strickland, Director of Program Operations, Administration for Native Americans, 330 C Street, SW, Washington, DC 20201 or via email to: ANAComments@acf.hhs.gov.

FOR FURTHER INFORMATION CONTACT: Carmelia Strickland, Director, Division of Program Operations, Administration for Native Americans, 330 C Street SW, Washington, DC 20201; Telephone: (877) 922-9262; Email: ANAComments@acf.hhs.gov.

SUPPLEMENTARY INFORMATION: Section 814 of NAPA, as amended (42 U.S.C. 2992b-1), incorporates provisions of the Administrative Procedure Act that require ANA to provide notice of its proposed interpretive rules and statements of policy and to seek public comment on such proposals. This notice serves to fulfill the statutory notice and public comment requirement. ANA voluntarily includes rules of practice and procedures in this notice to be transparent. The proposed interpretive rules, statements of policy, and rules of ANA practice and procedure reflected in clarifications, modifications, and new text will appear in the five FY 2024 NOFOs: SEDS—HHS-2024-ACF-ANA-NK-0050; SEDS-AK—HHS-2024-ACF-ANA-NA-0051; ERE—HHS-2024-ACF-ANA-NR-0061; P&M—HHS-2024-ACF-ANA-NL-0059; EMI—HHS-2024-ACF-ANA-NB-0054.

A. Interpretive rules, statements of policy, procedures, and practice. The proposals in this section reflect ANA's proposed changes in rules, policy, or procedure that will take effect in the FY 2024 NOFOs.

1. Fully-Funding Awards

ANA regulations state that awards will “generally . . . be made available for a one-year budget period and subsequent non-competing continuation awards with the same project period will also be for one year”. 45 CFR 1336.32 (emphasis added). In accordance with the regulation, ANA awards are currently awarded in 12-month increments and recipients with multi-year awards must submit a non-competitive continuation application to receive funding for the next budget period. In addition, if a recipient is unable to complete all activities within a budget period, they must request approval of a carryover budget amendment to use the funds from a previous budget period. In FY 2024, ANA will fully fund all competitive awards for the programs SEDS, ERE, P&M, and SEDS for Alaska for up to 36 months. This will promote self-governance and self-determination of tribes, Alaska Natives, and other Native American organizations; reduce the administrative burden of recipients by not requiring annual non-competing continuation applications for multi-year projects; and reduce the need for post-award amendments such as carryover budget requests. In addition, this will reduce administrative burden for ANA and Office of Grants Management staff and allow more time to support recipients. ANA will consider amending its regulations to fully fund competitive awards instead of incrementally fund awards in future award cycles. Applicants should be aware that fully funding awards in FY 2024 for the entire project period will result in fewer awards in this cycle. However, the number of non-competing continuations in future years will decline, leaving more annual appropriations funding available for new, fully funded awards.

The EMI program's authorizing statute allows for a 5-year or 60-month project period. ANA will fully fund EMI projects for the first 36 months with a 36-month budget period. EMI awards with a project period of 48 or 60-months will need to submit a non-competing continuation application for the remaining budget period(s), if applicable. This will mitigate financial risk and allow ANA to fund more projects with annual appropriations.

2. Modify Policy for ANA Disqualification Factor for “Assurance of Representation on Board of Directors”, Also Known as “Assurance”

ANA has a long-standing requirement that all applicants, other than tribes and Alaska Native village governments, include documentation in the application that identifies Board members by name and their affiliation to the communities that ANA serves. This policy ensures that organizations applying for an ANA award have a majority of the members on its governing board that have a personal affiliation or relationship to federally or state recognized tribes, have a cultural relationship with a Native community, or are considered Native American as defined by ANA regulations and Native American Pacific Islanders. Without this assurance, an application is disqualified from competing. ANA will modify this policy by exempting state recognized tribes from the Assurance disqualification factor. In addition, the current policy requires applicants from public agencies serving Native people from Guam, American Samoa, or the Commonwealth of the Northern Mariana Islands to submit the Assurance documentation. The revised policy will exempt public government agencies within the Pacific territories from this disqualification factor. Schools and universities that are governed by a board independent from their respective territorial governments remain subject to the Assurance requirements. Over the years, ANA has disqualified applications from state-recognized tribes and public governmental agencies in the territories because they did not include the Assurance documentation in the application. The policy modification will no longer require state-recognized tribes and public governmental agencies in Guam, American Samoa, and the Commonwealth of the Northern Mariana Islands to submit the Assurance documentation requirement. ANA's intent is to disqualify fewer applications. Disqualified applications are considered non-responsive and the application is not included in the merit review or funded.

3. Change Reference in ANA Policies That Reference the Catalog of Federal Domestic Assistance (CFDA) to “Assistance Listings”

The name for the Catalog of Federal Domestic Assistance (CFDA) changed to Assistance Listings on www.SAM.gov. ANA has several long-standing administrative policies and one disqualification factor included in all five NOFOs that include references to the CFDA. The administrative policies are known as the “Limitation on the Number of Award Under a Single CFDA Number” and “Limitation on the Number of Awards Based on Two Consecutively Funding Projects” with the same CFDA Number. The disqualification factor is known as the “Only One Active Award Per CFDA”. An eligible entity can have no more than one active award per CFDA number for an ANA program at any given time. This policy disqualifies any applicant that has an active ANA award with the same CFDA number that will continue beyond the start date of a possible new award to not apply for a new award. The policies regarding the limitation of awards per CFDA number ensures that ANA funding can reach other organizations that do not have an ANA award. The CFDA-related policies help to preserve resources and maximize the reach of ANA's limited funding by precluding the review of applications that would be ineligible for funding based on ANA's administrative policies. The policies are not changing; however, due to the government's name change of the CFDA to Assistance Listings, ANA is updating the related policy names in the NOFOs.

4. SEDS NOFO Specific Changes

ANA intends to fully fund awards upfront starting in FY24 and adjust the annual awards ceiling from $400,000 to $300,000 resulting, for example, total funding of $900,000 per grantee for a project period of 36 months. This change will allow ANA to fund additional projects with its annual appropriations, support management of fully funded projects, make funding more equitable across ANA's programs and positively impact more Native communities and organizations.

Since 2020, the SEDS NOFO set out bonus points in the evaluation criteria for projects that address Native American community priority areas such as veterans, emergency preparedness, and Missing and Murdered Indigenous People. Since 2021, the SEDS NOFO provided bonus points in the evaluation criteria for certain types of economic development projects that were mandated by the Indian Community Economic Enhancement Act of 2020. In this NOFO ANA intends to continue to fund projects that promote social and economic development; however, the SEDS NOFO will no longer include bonus points. This change will allow all types of proposed community-based projects in the SEDS competition to receive equal consideration while also allowing applicants to choose their own priorities that best meet the needs of their community.

SEDS-AK NOFO Specific Changes

Since 2020, the SEDS-AK NOFO allowed reviewers to add bonus points in the evaluation criteria for applications that documented that the applicant organization has never received a past award from ANA. Since 2021, the SEDS-AK NOFO provided bonus points in the evaluation criteria for certain types of economic development projects that were mandated by the Indian Community Economic Enhancement Act of 2020. In this NOFO ANA intends to continue to fund projects that promote social and economic development; however, the SEDS-AK NOFO will no longer include bonus points. This change will allow all proposed community-based projects in the SEDS-AK competition to receive equal consideration while also allowing applicants to choose their own priorities that best meet the needs of their community.

5. Changes to Required Application Elements

ANA has received applicant feedback for many years that the NOFOs are burdensome, too long, and difficult to understand. For FY24, HHS announced a Simpler NOFO pilot project to make NOFOs easier to understand and navigate as part of its efforts to increase equity and inclusion for underserved and marginalized communities. All five ANA NOFOs were selected to participate in the Simpler NOFO project. Therefore, the application requirements and evaluation criteria will change in FY24 to lessen the burden and make it easier to read, understand, and write an application. The ANA Project Framework, used in NOFOs from FY 2018-2023, will no longer be used, although some elements will remain. The required elements for an ANA application across all five NOFOs that will be evaluated will include: Project Narrative (for 75 points) to include the Current Community Condition (5 points), Project Goal (7 points), Objectives (8 points), Project Strategy and Implementation Plan (15 points), Community Based Strategy (12 points), Population to be Served (7 points), Outcomes (6 points), Objective Work Plan (15 points). The Organizational Capacity (total of 15 points) includes a Staffing Plan (5 points), Data Management Plan (3 points), Partnerships and Consultants (2 points), and Oversight Plan (5 points). The Line-Item Budget and Budget Narrative will be combined for a total of 10 points. A total of 100 points will be available for each NOFO. As mentioned earlier, no bonus points will be provided for any NOFO.

6. Reduction in Application Page Limits

ANA's previous application total page limit was 150 pages, excluding Standard Forms such as the SF-424, SF-424A, and other OMB-approved forms including ANA's Objective Work Plan. Applicant feedback informed ANA that 150 pages is too much. While ANA limits rather than requires 150 pages, applicants sometimes feel that it is a requirement to provide 150 pages to have a competitive application. Therefore, ANA will reduce the total page limit from 150 to 100 pages to reduce the burden to apply for ANA funding. To accommodate the lower page limit, business plans will no longer be required at the time of application submission. However, if a proposed project is subject to a business plan, ANA staff will request an applicant to provide a business plan during the Internal Review of Proposed Projects process of finalizing and negotiating grant awards.

Statutory Authority: Sections 803 and 814 of the Native American Programs Act of 1974 (NAPA), as amended (42 U.S.C. 2291b; 2992b-1).

Patrice H. Kunesh,
Commissioner, Administration for Native Americans.

[FR Doc. 2024-03160 Filed 2-14-24; 8:45 am]

BILLING CODE 4184-34-P